DEPARTMENT OF JUSTICE

[OMB Number 1117-0003]

Agency Information Collection Activities; Proposed eCollection eComments Requested; Extension of a Previously Approved Collection; ARCOS Transaction Reporting

AGENCY: Drug Enforcement Administration, Department of Justice.

ACTION: 60-Day notice.

SUMMARY: The Drug Enforcement Administration, Department of Justice (DOJ), will be submitting the following information collection request to the Office of Management and Budget (OMB) for review and approval in accordance with the Paperwork Reduction Act of 1995.

DATES: Comments are encouraged and will be accepted for 60 days until February 20, 2024.

FOR FURTHER INFORMATION CONTACT: If you have additional comments especially on the estimated public burden or associated response time, suggestions, or need a copy of the proposed information collection instrument with instructions or additional information, please contact Scott A Brinks, Regulatory Drafting and Policy Support Section, Drug Enforcement Administration; Mailing Address: 8701 Morrissette Drive, Springfield, Virginia 22152; Telephone: (571) 362-3261; Email: DPW@dea.gov.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: Section 307 of the Controlled Substances Act (21 U.S.C. 827) requires controlled substance manufacturers and distributors to make periodic reports to DEA regarding the sale, delivery, and other disposal of certain controlled substances. These reports help ensure a closed system of distribution for controlled substances, and are used to comply with international treaty obligations.

Overview of This Information Collection

1. Type of Information Collection: Extension of a previously approved collection.

2. The Title of the Form/Collection: ARCOS Transaction Reporting.

3. The agency form number, if any, and the applicable component of the Department sponsoring the collection: DEA Form 333. The applicable component within the Department of Justice is the Drug Enforcement Administration, Diversion Control Division.

4. Affected public who will be asked or required to respond, as well as the obligation to respond: Affected Public: Private Sector—business or other for-profit. The obligation to respond is mandatory per 21 CFR 1304.

5. An estimate of the total number of respondents and the amount of time estimated for an average respondent to respond: The DEA estimates that 1,181 registrants participate in this information collection. The time per response is 0.50 minutes to complete the DEA-333 (paper) and 0.25 minutes to complete DEA-333 (online).

6. An estimate of the total annual burden (in hours) associated with the collection: DEA estimates that this collection takes 2,850 annual burden hours.

7. An estimate of the total annual cost burden associated with the collection, if applicable: $0.

Total Burden Hours
Activity | Number of respondents | Total annual responses | Time per response (hours) | Total annual burden (hours)
DEA Form: 333 (online) | 31 | 110 | 0.50 | 55
DEA Form: 333 (paper) | 1,150 | 11,180 | 0.25 | 2,795
Unduplicated Totals | 1,181 | 11,290 |  | 2,850

If additional information is required contact: Darwin Arceo, Department Clearance Officer, United States Department of Justice, Justice Management Division, Policy and Planning Staff, Two Constitution Square, 145 N Street NE, 4W-218, Washington, DC.

Dated: December 18, 2023.
Darwin Arceo,
Department Clearance Officer for PRA, U.S. Department of Justice.

[FR Doc. 2023-28107 Filed 12-20-23; 8:45 am]

BILLING CODE 4410-09-P